DEPARTMENT OF TRANSPORTATION

Federal Aviation Administration

Notice of Intent To Rule on Application (02-04-U-00-AOO) To Use the Revenue From a Passenger Facility Charge (PFC) at Altoona-Blair County Airport, Altoona, PA

AGENCY: Federal Aviation Administration (FAA), DOT.

ACTION: Notice of intent to rule on application; correction.

SUMMARY: This correction revises information from the previously published notice.

In notice document 02-21141 beginning on page 54013 in the issue of Tuesday, August 20, 2002, under the SUPPLEMENTARY INFORMATION section, third paragraph, Proposed charge effective date should be, “July 1, 2000” and the Total estimated PFC revenue should be, “$43,610”.

Also, under the Supplementary Information section, sixth paragraph, the contact address for FAA regional airports office should be: “Eastern Region, Airports Division, AEA-610, 1 Aviation Plaza, Jamaica, New York 11434”.

DATES: Comments must be received on or before October 4, 2002.

FOR FURTHER INFORMATION CONTACT: Sharon Daboin/Manager HAR-ADO Airports District Office, 3905 Hartzdale Drive, Suite 508, (717) 730-2830. The application may be reviewed in person at this same location.

Issued in Harrisburg, PA on August 26, 2002.
Sharon Daboin,
Manager, HAR-ADO, Eastern Region.

[FR Doc. 02-22500 Filed 9-3-02; 8:45 am]

BILLING CODE 4910-13-M